DEPARTMENT OF LABOR

Employment and Training Administration

[TA-W-70,857; TA-W-70,857A; TA-W-70,857B; TA-W-70,857C; TA-W-70,857D]

DHL Global Forwarding, A Subsidiary of DP DHL, Finance and Accounting Divisions, Including Workers Whose Wages Are Reported to Danzas, Radix and Air Express Plantation, FL; DHL Global Forwarding, A Subsidiary of DP DHL, Finance and Accounting Divisions, Including Workers Whose Wages Are Reported to Danzas, Radix and Air Express, Including On-Site Leased Workers From Manpower, Randstad, Tempfinders, Volt, Spherion, Ajilon, Accountemps and Adecco, Irving TX; DHL Global Forwarding, A Subsidiary of DP DHL Finance and Accounting Divisions, Including Workers Whose Wages Are Reported to Danzas, Radix and Air Express, Phoenix, AZ; DHL Global Forwarding, A Subsidiary of DP DHL, Finance and Accounting Divisions, Including Workers Whose Wages Are Reported to Danzas, Radix and Air Express, Including On-Site Leased Workers From Manpower, Randstad, Tempfinders, Volt, Spherion, Ajilon, Accountemps and Adecco, Houston, TX; DHL Global Forwarding, A Subsidiary of DP DHL, Finance and Accounting Divisions, Including Workers Whose Wages Are Reported to Danzas, Radix and Air Express, Renton, WA; Amended Certification Regarding Eligibility To Apply for Worker Adjustment Assistance

In accordance with Section 223 of the Trade Act of 1974, as amended (“Act”), 19 U.S.C. 2273, the Department of Labor issued a Certification of Eligibility to Apply for Worker Adjustment Assistance on December 15, 2009, applicable to workers of DHL Global Forwarding, a subsidiary of DP DHL, Finance and Accounting Divisions, Plantation, Florida, (TA-W-70,857); DHL Global Forwarding, a subsidiary of DP DHL, Finance and Accounting Divisions, including on-site leased workers from Manpower, Randstad, Tempfinders and Volt, Irving, Texas, (TA-W-70,857A); DHL Global Forwarding, a subsidiary of DP DHL, Finance and Accounting Divisions, Phoenix, Arizona, (TA-W-70,857B); DHL Global Forwarding, a subsidiary of DP DHL, Finance and Accounting Divisions, including on-site leased workers from Manpower, Randstad, Tempfinders and Volt, Houston, Texas (TA-W-70,857C); and DHL Global Forwarding, a subsidiary of DP DHL, Finance and Account Divisions, Renton, Washington (TA-W-70,857D). The notice was published in the Federal Register on February 16, 2010 (75 FR 7033-7034).

At the request of the State Agency, the Department reviewed the certification for workers of the subject firm. The workers supply financial and accounting services.

The company reports that on-site leased workers from Spherion, Ajilon, Accountemps and Adecco were employed on-site at only the Houston, Texas and Irving, Texas locations of DHL Global Forwarding, a subsidiary of DP DHL, Finance and Accounting Divisions. The Department has determined that these workers were sufficiently under the control of the subject firm to be considered leased workers.

Information also shows that some workers at the above mentioned locations of the subject firm had their wages reported under separated unemployment insurance (UI) tax accounts for Danzas, Radix and Air Express.

Based on these findings, the Department is amending this certification to include workers leased from Spherion, Ajilon, Accountemps, and Adecco working on-site at only the Houston, Texas and Irving, Texas locations of the subject firm and to also include workers at all of the above mentioned locations whose wages are reported to Danzas, Radix and Air Express.

The amended notice applicable to TA-W-70,857, TA-W-70,857A, TA-W-70,857B, TA-W-70,857C and TA-W-70,857D are hereby issued as follows:

All workers of DHL Global Forwarding, a subsidiary of DP DHL, Finance and Accounting Divisions, Plantation, Florida (TA-W-70,857), DHL Global Forwarding, a subsidiary of DP DHL, Finance and Accounting Divisions, including on-site leased workers from Manpower, Randstad, Tempfinders, Volt, Spherion, Ajilon Accountemps and Adecco, Irving, Texas (TA-W-70,857A), DHL Global Forwarding, a subsidiary of DP DHL, Finance and Accounting Divisions, Phoenix, Arizona (TA-W-70,857B), DHL Global Forwarding, a subsidiary of DP DHL, Finance and Accounting Divisions, including on-site leased workers from Manpower, Randstad, Tempfinders, Volt, Spherion, Ajilon, Accountemps and Adecco, Houston, Texas (TA-W-70,857C) and DHL Global Forwarding, a subsidiary of DP DHL, Finance and Accounting Divisions, Renton, Washington (TA-W-70,857D) who became totally or partially separated from employment on or after June 1, 2008, through December 15, 2011, and all workers in the group threatened with total or partial separation from employment on the date of certification through two years from the date of certification, are eligible to apply for adjustment assistance under Chapter 2 of Title II of the Trade Act of 1974, as amended.

Signed at Washington, DC this 19th day of February 2010.
Michael W. Jaffe.
Certifying Officer, Division of Trade Adjustment Assistance.

[FR Doc. 2010-4578 Filed 3-4-10; 8:45 am]

BILLING CODE 4510-FN-P